NATIONAL SCIENCE FOUNDATION

Sunshine Act Meetings

The National Science Board hereby gives notice of a change in a previously scheduled closed teleconference meeting of the External Engagement Committee's Subcommittee on Honorary Awards pursuant to the National Science Foundation Act and the Government in the Sunshine Act.

Federal Register CITATION OF PREVIOUS ANNOUNCEMENT: 86 FR 62851, November 12, 2021.

PREVIOUSLY ANNOUNCED TIME AND DATE OF THE MEETING: The National Science Board's Subcommittee on Honorary Awards was scheduled for November 16, 2021, from 11:00 a.m.-12:00 p.m. EST.

CHANGES IN THE MEETING: The new date and time is November 23, 2021, from 3:00-4:00 p.m. EST.

CONTACT PERSON FOR MORE INFORMATION: Chris Blair, 703/292-7000, cblair@nsf.gov.

Chris Blair,
Executive Assistant to the National Science Board Office.

[FR Doc. 2021-25223 Filed 11-16-21; 11:15 am]

BILLING CODE P